NATIONAL AERONAUTICS AND SPACE ADMINISTRATION

[Notice: 15-056]

NASA Advisory Council; Science Committee; Meeting

AGENCY: National Aeronautics and Space Administration.

ACTION: Notice of meeting.

SUMMARY: In accordance with the Federal Advisory Committee Act, Pub. L. 92-463, as amended, the National Aeronautics and Space Administration (NASA) announces a meeting of the Science Committee of the NASA Advisory Council (NAC). This Committee reports to the NAC. The meeting will be held for the purpose of soliciting, from the scientific community and other persons, scientific and technical information relevant to program planning.

DATES: Monday, July 27, 2015, 9:30 a.m. to 5:00 p.m., Local Time; Tuesday, July 28, 2015, 8:00 a.m. to 1:00 p.m.; Local Time; and Wednesday, July 29, 2015, 8:00 a.m. to 9:45 a.m., Local Time.

ADDRESSES: Jet Propulsion Laboratory, Building 167, Special Events Room (SER), 4800 Oak Grove Drive, Pasadena, CA 91011.

FOR FURTHER INFORMATION CONTACT: Ms. Ann Delo, Science Mission Directorate, NASA Headquarters, Washington, DC 20546, (202) 358-0750, fax (202) 358-2779, or ann.b.delo@nasa.gov.

SUPPLEMENTARY INFORMATION: The meeting will be open to the public up to the capacity of the room. The meeting will also be available telephonically and by WebEx. You must use a touch-tone phone to participate in this meeting. Any interested person may dial the USA toll free conference call number 1-800-988-9663, passcode 8015, to participate in this meeting by telephone on all three days. A toll number also is available, 1-517-308-9483, passcode 8015, for all three days. The WebEx link is https://nasa.webex.com/; the meeting number is 991 957 517 and the password is Science@July2015 for all three days. The agenda for the meeting includes the following topics:

—Pluto Close Approach by New Horizons

—Planetary Protection

—Science Mission Directorate Division Director Briefings

—Subcommittee Reports

Attendees will be required sign a register and to comply with Jet Propulsion Laboratory (JPL) security requirements including presentation of a valid picture ID (such as a driver's license for U.S. Citizens; Permanent Resident green card; or passport/visa for non-U.S. Citizens) before receiving admittance to JPL. Due to the Real ID Act, Public Law 109-13, any attendees with driver's licenses issued from non-compliant states/territories must present a second form of identification: [Federal employee badge; passport; active military identification card; enhanced driver's license; U.S. Coast Guard Merchant Mariner card; Native American tribal document; school identification accompanied by an item from LIST C (documents that establish employment authorization) from the “List of the Acceptable Documents” on Form I-9]. Non-compliant states/territories are: American Samoa, Arizona, Idaho, Louisiana, Maine, Minnesota, New Hampshire, and New York. Individuals without proper identification will not be admitted to the JPL. Members of the public interested in attending this meeting must contact Ms. Helen N. Paley of JPL at phone number 818-354-6427 or helen.n.paley@jpl.nasa.gov to receive a listing of the information required prior to admittance to JPL. Completed information spreadsheet must be emailed to Ms. Paley by no later than Friday, July 17, 2015. It is imperative that this meeting be held on these dates to accommodate the scheduling priorities of the key participants.

Patricia D. Rausch,
Advisory Committee Management Officer, National Aeronautics and Space Administration.

[FR Doc. 2015-16916 Filed 7-9-15; 8:45 am]

BILLING CODE 7510-13-P